DEPARTMENT OF JUSTICE

Office of Justice Programs

Agency Information Collection Activities: Reinstatement of a Previous Approved Collection; Comments Requested

ACTION: 30-Day Notice of Information Collection Under Review: 2006 Census of Law Enforcement Training Academies.

The Department of Justice (DOJ), Office of Justice Programs, Bureau of Justice Statistics (BJS), has submitted the following information collection request to the Office of Management and Budget (OMB) for review and approval in accordance with the Paperwork Reduction Act of 1995. The proposed information collection is published to obtain comments from the public and affected agencies. This proposed information collection was previously published in the Federal Register Volume 70, Number 205, page 61645 on October 25, 2005, allowing for a 60-day comment period.

The purpose of this notice is to allow for an additional 30 days for public comment until February 21, 2006. This process is conducted in accordance with 5 CFR 1320.10.

If you have comments especially on the estimated public burden or associated response time, suggestions, or need a copy of the proposed information collection instrument with instructions or additional information, please contact Matthew Hickman, Bureau of Justice Statistics, 810 Seventh St., NW., Washington, DC 20531.

Written comments and suggestions from the public and affected agencies concerning the proposed collection of information are encouraged. Your comments should address one or more of the following four points:

—Evaluation whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Reinstatement, with change, of a previously approved collection for which approval has expired.

(2) Title of the Form/Collection: 2006 Census of Law Enforcement Training Academies.

(3) Agency form number, if any, and the application component of the Department of Justice sponsoring the collection: Form Number: CJ-52.

(4) Affected public who will be asked or required to respond, as well as a brief abstract: Primary: Federal, State, and Local Government. This information collection is a census of law enforcement training academies. The information will provide national statistics on law enforcement training staff, recruits/trainees, curricula, facilities, and policies.

(5) An estimate of the total number of respondents and the amount of time estimated for an average respondent to respond: It is estimated that 650 respondents will complete a one and one-half form.

(6) An estimate of the total public burden (in hours) associated with the collection: There are an estimated 975 total annual burden hours associated with this collection.

If additional information is required contact: Robert B. Briggs, Clearance Officer, United States Department of Justice, Justice Management Division, Policy and Planning Staff, Patrick Henry Building, Suite 1600, 601 D Street, NW., Washington, DC 20530.

Dated: January 11, 2006.
Robert B. Briggs,
Clearance Officer, United States Department of Justice.

[FR Doc. 06-473 Filed 1-18-06; 8:45 am]

BILLING CODE 4410-18-M